DEPARTMENT OF TRANSPORTATION

Federal Motor Carrier Safety Administration

[Docket No. FMCSA-2025-0260]

Parts and Accessories Necessary for Safe Operation; Emergency Safety Solutions' Application for Exemption

AGENCY: Federal Motor Carrier Safety Administration (FMCSA), Department of Transportation (DOT).

ACTION: Notice of application for exemption; request for comments.

SUMMARY: The Federal Motor Carrier Safety Administration (FMCSA) requests public comment on an application for a five year exemption received from Emergency Safety Solutions (ESS or Applicant). Specifically, ESS seeks an exemption from certain Federal Motor Carrier Safety Regulations (FMCSRs) related to requirements for placing warning devices around a stopped commercial motor vehicle (CMV), requirements that exterior lamps be steady burning, and requirements that specific types of warning devices be used. The exemption would allow CMVs to operate with a module manufactured by ESS which pulses the rear clearance, identification, and brake lamps from a standard lower level lighting intensity (1-2 Hertz) to a higher-level lighting intensity (4-5 Hertz) when activated during emergency stops or breakdowns. FMCSA requests public comment on Applicant's request for exemption.

DATES: Comments must be received on or before September 25, 2025.

ADDRESSES: You may submit comments identified by Federal Docket Management System (FDMS) Number FMCSA-2025-0260 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, 1200 New Jersey Avenue SE, between 9 a.m. and 5 p.m. E.T., Monday through Friday, except Federal holidays.

• Fax: (202) 493-2251.

Each submission must include the Agency name and the docket number (FMCSA-2025-0260) for this notice. Note that DOT posts all comments received without change to www.regulations.gov, including any personal information included in a comment. Please see the Privacy Act heading below.

Docket: For access to the docket to read background documents or comments, go to www.regulations.gov at any time or visit the ground level of the West Building, 1200 New Jersey Avenue SE, Washington, DC, between 9 a.m. and 5 p.m. ET, Monday through Friday, except Federal holidays. To be sure someone is there to help you, please call (202) 366-9317 or (202) 366-9826 before visiting Dockets Operations.

Privacy Act: In accordance with 49 U.S.C. 31315(b), DOT solicits comments from the public to better inform its exemption process. DOT posts these comments, including any personal information the commenter provides, to www.regulations.gov, as described in the system of records notice DOT/ALL 14 -FDMS, which can be reviewed at https://www.transportation.gov/privacy. The comments are posted without edit and are searchable by the name of the submitter.

FOR FURTHER INFORMATION CONTACT: Mr. David Sutula, Chief, Vehicle and Roadside Operations Division, Office of Carrier, Driver, and Vehicle Safety, FMCSA, at (202) 366-9209, or by email at david.sutula@dot.gov.

If you have questions on viewing or submitting material to the docket, contact Dockets Operations at (202) 366-9826.

SUPPLEMENTARY INFORMATION:

I. Public Participation and Request for Comments

FMCSA encourages you to participate by submitting comments and related materials.

Submitting Comments

If you submit a comment, please include the docket number for this notice (FMCSA-2025-0260), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number “FMCSA-2025-0260” in the keyword box, and click “Search.” Next, sort the results by “Posted (Newer-Older),” choose the first notice listed, click the “Comment” button, and type your comment into the text box on the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved without the exemption, pursuant to the standard set forth in 49 CFR 381.305(a). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Current Regulatory Requirements

Applicant seeks an exemption from the requirements in 49 CFR 393.95(f), 392.22(a), and 392.22(b). The applicable FMCSRs require the driver of a CMV stopped on the traveled portion or the shoulder of a road for any cause other than a necessary traffic stop to activate hazard warning signal flashers and place required warning devices as soon as possible, but within ten minutes, at specified locations behind and in front of the stopped CMV. They also specify placement of warning devices in certain circumstances, such as during daylight hours, or where devices may be obstructed from view (e.g., when stopped within 500 feet of a curve or the crest of a hill). 49 CFR 392.22(b). The FMCSRs also require that all exterior lamps be steady burning, with certain exceptions. 49 CFR 393.25(e). Finally, the FMCSRs specify the types and number of warning devices to be used for stopped vehicles, namely three bidirectional emergency reflective triangles, or at least six fusees or three liquid-burning flares. 49 CFR 393.95(f)(1)-(2). Other warning devices may be used in addition to required devices, as long as they do not reduce the effectiveness of required devices. 49 CFR 393.95(f)(3).

Applicant's Request

Applicant requests the exemption for two Hazard Enhanced Location Protocol (H.E.L.P.) lighting alert products, H.E.L.P. DeliverSAFE Truck and H.E.L.P. DeliverSAFE Trailer. Applicant requests an exemption from §§ 392.22(a), 392.22(b), and 393.95(f) for all drivers of CMVs equipped with the H.E.L.P. DeliverSAFE Truck system. Applicant requests an exemption from §§ 392.22(a) and 392.22(b) for all drivers of CMVs equipped with the H.E.L.P. DeliverSAFE Trailer system. The H.E.L.P. DeliverSAFE Truck module taps into the CMV's red and amber lighting circuits and activates higher flash rates on lamps on the front, sides, and rear of the CMV tractor and trailer or box truck when the CMV is in park or the parking brake is engaged, the hazard lights are on, and the module's hard switch is turned on. The H.E.L.P. DeliverSAFE Trailer module is mounted externally between the tractor and trailer and relies on software to confirm the vehicle is stationary, hazard lights are activated, and the system is armed via either mobile app or hard switch located on the product. The Trailer module activates higher flash rates on lamps on the sides and rear of the trailer of the stopped CMV but because it does not activate lamps on the tractor, the driver would continue to need to carry warning devices required by § 393.95(f) if stopped on an undivided or two-lane highway where traffic is approaching from the front of the CMV.

Applicant asserts that the H.E.L.P. Lighting Alerts will pulsate at higher frequency of 4-5 hertz when activated during emergency stops and, therefore, will enhance visibility of a stopped or stalled CMV to other approaching motorists. Applicant submits that pulsating of the required and auxiliary lamps of a CMV significantly increases visibility and reduces the frequency of rear-end crashes, without the need for each CMV to be equipped with warning devices required by the FMCSRs. Applicant cites studies, including a 2010 study conducted by performed by Virginia Tech Transportation Institute (VTTI) for the National Highway Traffic Safety Administration (NHTSA) (DOT HS 811 329) and 2022 study performed by VTTI for ESS, that it states support its claim that the ESS module will likely achieve a level of safety that is equivalent to, or greater than, the level that would be achieved absent the exemption. Applicant also states that its modules protect CMV drivers by removing the need for the driver to exit the CMV to place the FMCSR-required warning devices around the CMV and then recover the devices in or alongside moving traffic.

While not directly relevant to the exemption request, the Applicant states that its H.E.L.P. Digital Alerts module supplements the system by sending digital warnings to nagivation systems of oncoming motorists to alert them to the disabled CMV's presence approximately 20 seconds before the approaching vehicle is predicted to encounter the CMV.

Applicant further explains that the National Highway Traffic Safety Administration provided ESS with a January 19, 2021, interpretation letter advising that the H.E.L.P. Lighting Alerts are permitted under the Federal Motor Vehicle Safety Standards as an auxiliary hazard warning signal flasher.

A copy of ESS's application for exemption, and all supporting materials, are available for review in the docket for this notice.

IV. Request for Comments

In accordance with 49 U.S.C. 31315(b), FMCSA requests public comment from all interested persons on ESS's application for a five-year exemption from 49 CFR 393.95(f), 392.22(a), and 392.22(b).

All comments received before the close of business on the comment closing date will be considered and will be available for examination in the docket at the location listed under the ADDRESSES section of this notice. Comments received after the comment closing date will be filed in the public docket and may be considered to the extent practicable. In addition to late comments, FMCSA will also continue to file, in the public docket, relevant information that becomes available after the comment closing date. Interested persons should continue to examine the public docket for new material.

Larry W. Minor,
Associate Administrator for Policy.

[FR Doc. 2025-16310 Filed 8-25-25; 8:45 am]

BILLING CODE 4910-EX-P